DEPARTMENT OF COMMERCE

National Oceanic and Atmospheric Administration

New England Fishery Management Council; Public Meeting

AGENCY: National Marine Fisheries Service (NMFS), National Oceanic and Atmospheric Administration (NOAA), Commerce.

ACTION: Notice; public meetings.

SUMMARY: The New England Fishery Management Council (Council) is scheduling a public meeting of its Joint Observer and Herring Committees to consider actions affecting New England fisheries in the exclusive economic zone (EEZ). Recommendations from these groups will be brought to the full Council for formal consideration and action, if appropriate.

DATES: This meeting will be held on Wednesday, July 1, 2015 at 9:30 a.m.

ADDRESSES:

Meeting address: The meeting will be held at the Four Points by Sheraton (formerly Sheraton Colonial), 1 Audubon Road, Wakefield, MA 01880; telephone: (781) 245-9300; fax: (781) 245-0842.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The committees plan to review and discuss updated information and analyses for the draft Environmental Assessment (EA) for NMFS-led omnibus amendment to establish provisions for industry-funded monitoring (IFM) across all Council-managed fisheries. They will also review and discuss the elements of options for industry-funded monitoring in the Atlantic herring fishery, including at-sea monitoring, portside sampling, and electronic monitoring (EM); develop recommendations regarding the specific combinations of measures (“packages”) to be analyzed in the Draft EA. Additionally, they will review updated information related to herring/mackerel economic analysis in omnibus IFM amendment. The committees will also discuss other elements of IFM amendment and develop related recommendations, as appropriate. Other business will be discussed as necessary.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: June 10, 2015.
Tracey L. Thompson,
Acting Deputy Director, Office of Sustainable Fisheries, National Marine Fisheries Service.

[FR Doc. 2015-14628 Filed 6-12-15; 8:45 am]

BILLING CODE 3510-22-P